COMMISSION ON CIVIL RIGHTS

Notice of Public Meeting of the Rhode Island Advisory Committee; Correction

AGENCY: Commission on Civil Rights

ACTION: Notice; correction.

SUMMARY: The Commission on Civil Rights is correcting its meeting notice for the Rhode Island Advisory Committee.

FOR FURTHER INFORMATION CONTACT: Victoria Moreno, 434-515-0204, vmoreno@usccr.gov.

SUPPLEMENTARY INFORMATION: The Commission on Civil Rights is correcting its notice of the Rhode Island Advisory Committee that published in the Federal Register on April 4, 2025, 90 FR 14776.

Correction

In the Federal Register of Friday, April 4, 2025, in FR Doc. 2025-05761, in the third column of page 14776, correct the DATES caption to read:

DATES: Wednesday, April 30, 2025, at 3 p.m. (ET).

Dated: April 22, 2025.
David Mussatt,
Supervisory Chief, Regional Programs Unit.

[FR Doc. 2025-07177 Filed 4-24-25; 8:45 am]

BILLING CODE P